DEPARTMENT OF ENERGY

Federal Energy Regulatory Commission

[Docket No. CP01-156-000]

Cove Point LNG Limited Partnership; Notice of Request Under Blanket Authorization

April 20, 2001.

Take notice that on April 17, 2001, Cove Point LNG Limited Partnership (Cove Point), Post Office Box 1396, Houston, Texas 77251-1396, filed a request with the Commission in Docket No. CP01-156-000, pursuant to Section 157.205, 157.208 of the Commission's Regulations under the Natural Gas Act (NGA) for authorization to construct and operate facilities in Fairfax County, Virginia to interconnect with Transcontinental Gas Pipe Line Corporation's (Transco) system, authorized in blanket certificate issued in Docket No. CP94-59-002, all as more fully set forth in the request on file with the Commission and open to public inspection. This filing may be viewed on the web at http://www.ferc.fed.us/online/rims.htm (call 202-208-2222 for assistance).

Cove Point seeks authorization to interconnect with Transco's system in Fairfax County, Virginia to provide additional flexibility to its import and existing customers. Cove Point reports that the Transco interconnect would be as follows: (1) A 2.14-mile, 36-inch diameter lateral (the Lateral) to connect the Main Line and the Transco system, (2) a new bi-directional Pleasant Valley Meter Station (the Meter Station) to measure the movement of gas between the Cove Point and Transco systems, and (3) a 20-inch tap on the Main Line at the Pleasant Valley site. Cove Point continues that the facilities would be as follows: The Lateral would connect the Main Line to the Transco system. The Lateral would originate at the existing Pleasant Valley site (Cove Point Mile Post 75.00) to its tie-in to Transco's Main Lines B (one 20-inch hot tap) and Main Line C (two 24-inch hot taps). The hot taps would be constructed by Transco pursuant to Transco's blanket certificate. The tie-in to the Transco system would be 2.14 miles upstream of the Pleasant Valley site at Cove Point Mile Post 73.00 and at Transco Mile Post 1586.20. The Lateral would run parallel to the Main Line for the entire 2.14 miles. The Main Line would be centered on an existing 50-foot wide easement. This easement abuts an existing Virginia Electric and Power Company (Virginia Power) power line right-of-way. There would be 20 feet between the Main Line and the Lateral, thus placing the Lateral five feet inside the existing maintained Cove Point easement and 15 feet between the Lateral and the existing power line.

Cove Point reports that the estimated cost of the Lateral would be $6,016,000. The maximum allowable operating pressure of the Lateral would be 800 psig. The Lateral would be owned, operated and maintained by Cove Point. The Meter Station would be located at the site of the existing, non-operational Pleasant Valley meter station. The Meter Station would be constructed within the fenced site of the existing meter station. The Meter Station would consist of three heaters, 10-inch and 24-inch ultrasonic meters, flow control and pressure regulation, a flow computer, a chromatograph and a filter/separator. The capacity of the interconnect would be 1,000 MDt/d. The flow computer and instruments associated with gas measurement would be installed in an 8-foot by 16-foot equipment building. The pressure regulation equipment would be installed in a 30-foot by 30-foot building. The meter piping would not be enclosed in a building; it would consist of 36-inch inlet and outlet piping to and from the Meter Station. There are two existing unused 20-inch taps on the Main Line at the Pleasant Valley site, and they would be used in connection with the new project. In addition, a new 20-inch tap would be installed at this location. Accordingly, Cove Point seeks authority to construct and operate such 20-inch tap. Since Cove Point owns the land at the Pleasant Valley site, the incidental costs would consist of implementation of a soil erosion and sedimentation control plan for the duration of the construction period, clearing, grading, adding select backfill, improving an existing parking area and driveway in the meter station yard, adding gravel and crushed stone around Cove Point's yard facilities and final cleanup. The existing fencing around the Pleasant Valley site would be taken down during construction. After construction, the fencing would be put back up on the same alignment. The estimated cost of the Meter Station would be $5,086,000.

Any questions regarding the application may be directed to Michael Cathey, Post Office Box 1396, Houston, Texas 77251-1396, or telephone (713) 215-2677.

Any person or the Commission's staff may, within 45 days after the Commission has issued this notice, file pursuant to Rule 214 of the Commission's Procedural Rules (18 CFR 385.214) a motion to intervene or notice of intervention and pursuant to Section 157.205 of the Regulations under the NGA (18 CFR 157.207) a protest to the request. If no protest is filed within the allowed time, the proposed activity shall be deemed to be authorized effective the day after the time allowed for filing a protest. If a protest is filed and not withdrawn within 30 days after the time allowed for filing a protest, the instant request shall be treated as an application for authorization pursuant to Section 7 of the NGA. Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-10329 Filed 4-25-01; 8:45 am]

BILLING CODE 6717-01-M